ENVIRONMENTAL PROTECTION AGENCY

[EPA-HQ-OPP-2002-0302;FRL-8075-2]

Dichlorvos (DDVP); Notice of Receipt of Request to Amend to Terminate Uses of Certain Pesticide Registrations

AGENCY: Environmental Protection Agency (EPA).

ACTION: Notice.

SUMMARY: In accordance with section 6(f)(1) of the Federal Insecticide, Fungicide, and Rodenticide Act (FIFRA), as amended, EPA is issuing a notice of receipt of a request by the registrant to amend their registrations to terminate uses of certain products containing the pesticide DDVP. The request would terminate DDVP use in or on: Mushroom house (hand held fogger); Greenhouse (hand held fogger); Warehouse (hand held fogger); Residential Crack and Crevice use; Residential Total Release Fogger; Lawn, Turf and Ornamentals; 21 gram Pest Strip; 65 gram Pest Strip; 80 gram Pest Strip; and 100 gram Pest Strip. The request would not terminate the last DDVP products registered for use in the United States. EPA intends to grant this request at the close of the comment period for this announcement unless the Agency receives substantive comments within the comment period that would merit its further review of the request. In addition, EPA will not approve the request as to the 21 gram, 65 gram, or 80 gram pest strips prior to EPA approving the replacement registrations, per the registrant's May 9, 2006 letter to EPA. Upon acceptance of this request, any sale, distribution, or use of products listed in this notice will be permitted only if such sale, distribution, or use is consistent with the terms as described in the final order.

DATES: Comments must be received on or before July 31, 2006.

ADDRESSES: Submit your comments, identified by docket identification (ID) number EPA-HQ-OPP-2002-0302, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Building), 2777 S. Crystal Drive, Arlington, VA. Deliveries are only accepted during the Docket's normal hours of operation (8:30 a.m. to 4 p.m., Monday through Friday, excluding legal holidays). Special arrangements should be made for deliveries of boxed information. The Docket telephone number is (703) 305-5805.

Instructions: Direct your comments to docket ID number EPA-HQ-OPP-2002-0302. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The Federal regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Building), 2777 S. Crystal Drive, Arlington, VA. The hours of operation of this Docket Facility are from 8:30 a.m. to 4 p.m., Monday through Friday, excluding legal holidays. The Docket telephone number is (703) 305-5805.

FOR FURTHER INFORMATION CONTACT: Dayton Eckerson, Special Review and Reregistration Division (7508P), Office of Pesticide Programs, Environmental Protection Agency, 1200 Pennsylvania Ave., NW., Washington, DC 20460-0001; telephone number: (703) 308-8038; fax number: (703) 308-8005; e-mail address: eckerson.dayton@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Background on the Receipt of Requests to Amend Registrations to Delete Uses

This notice announces receipt by EPA of a request from registrant Amvac Chemical Corporation to amend to terminate uses of DDVP product registrations. DDVP is an organophosphate insecticide and fumigant registered for use in controlling flies, mosquitoes, gnats, cockroaches, fleas, and other insect pests. Formulations of DDVP include pressurized liquid, granular, emulsifiable concentrate, total release aerosol, and impregnated material. DDVP is applied with aerosols and fogging equipment, with ground spray equipment, and through slow release from impregnated materials, such as resin strips and pet collars. DDVP is registered to control insect pests on agricultural sites; commercial, institutional and industrial sites; and for domestic use in and around homes (i.e., resin strips) and on pets. DDVP is used preplant in mushroom houses, and postharvest in storage areas for bulk, packaged and bagged raw and processed agricultural commodities, food manufacturing/processing plants, animal premises, and non-food areas of food-handling establishments. It is also registered for direct dermal pour-on treatment of cattle and poultry, and swine. DDVP is not registered for direct use on any field grown commodities. In a letter dated May 9, 2006, Amvac Chemical Corporation requested EPA to amend to terminate uses of pesticide product registrations identified in this notice (Table 1). Specifically, the request would terminate DDVP use in or on: Mushroom house (hand held fogger); Greenhouse (hand held fogger); Warehouse (hand held fogger); Residential Crack and Crevice use; Residential Total Release Fogger; Lawn, Turf and Ornamentals; 21 gram Pest Strip; 65 gram Pest Strip; 80 gram Pest Strip; and 100 gram Pest Strip. The request would not terminate the last DDVP products registered for use in the U.S.

III. What Action is the Agency Taking?

This notice announces receipt by EPA of a request from a registrant to amend to terminate uses of DDVP product registrations. The affected products and the registrants making the requests are identified in Tables 1 and 2 of this unit.

Under section 6(f)(1)(A) of FIFRA, registrants may request, at any time, that their pesticide registrations be canceled or amended to terminate one or more pesticide uses. Section 6(f)(1)(B) of FIFRA requires that before acting on a request for voluntary cancellation, EPA must provide a 30-day public comment period on the request for voluntary cancellation or use termination. In addition, section 6(f)(1)(C) of FIFRA requires that EPA provide a 180-day comment period on a request for voluntary cancellation or termination of any minor agricultural use before granting the request, unless:

1. The registrant requests a waiver of the comment period, or

2. The Administrator determines that continued use of the pesticide would pose an unreasonable adverse effect on the environment.

The DDVP registrant has requested that EPA waive the 180-day comment period. EPA will provide a 30-day comment period on the proposed requests.

Unless the Agency determines that there are substantive comments that warrant further review of this request, an order will be issued amending the affected registrations. However, EPA will not approve the request as to the 21 gram, 65 gram, or 80 gram pest strips prior to EPA approving the replacement registrations, per the registrant's May 9, 2006 letter to EPA.

Table 1.—DDVP Product Registrations with Pending Requests for Amendment
Registration No. | Product name | Company
5481-96 | DDVP TECHNICAL GRADE | Amvac Chemical Corporation
5481-338 | ALCO NO-PEST STRIP | Amvac Chemical Corporation
5481-344 | AMVAC INSECT STRIP | Amvac Chemical Corporation
5481-348 | ALCO PEST STRIP | Amvac Chemical Corporation
5481-461 | AMVOS RESTECH | Amvac Chemical Corporation
5481-462 | AMVOS LIQUITECH | Amvac Chemical Corporation

Table 2 of this unit includes the name and address of record for the registrant of the products listed in Table 1 of this unit.

Table 2.—Registrant Requesting Voluntary Amendments
EPA Company No. | Company Name and Address
5481 | Amvac Chemical Corporation, 4695 MacArthur Court, Suite 1250, Newport Beach, CA 92660

IV. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the Administrator may approve such a request.

V. Provisions for Disposition of Existing Stocks

Existing stocks are those stocks of registered pesticide products which are currently in the United States and which were packaged, labeled, and released for shipment prior to the effective date of the cancellation action.

In any order issued in response to this request for amendments to terminate uses, the Agency proposes to include the following provisions for the treatment of any existing stocks of the pest strip products identified or referenced in Table 1: Amvac's request for voluntary deletion of pest strip uses is conditioned upon EPA issuing a cancellation order that will not prevent any sale or distribution of product to any end use registrant or supplemental distributor (“Distributor”) bearing previously approving labeling before December 31, 2007, and will not prevent any sale or distribution of such product by retailers. Amvac's request is further conditioned upon EPA allowing the sale or distribution of such product by Distributors after that date if such sale or distribution is for purposes of (i) return of material to Amvac, (ii) proper disposal, or (iii) export consistent with the requirements of section 17 of FIFRA.

However, with respect to the following uses:

• Mushroom house (hand held fogger);

• Greenhouse (hand held fogger);

• Warehouse (hand held fogger);

• Residential Crack and Crevice use;

• Residential Total Release Fogger; and

• Lawn, Turf and Ornamentals.

The Agency proposes to include the following provisions for the treatment of any existing stocks: The distribution, sale or use of any existing stocks of such products will not be permitted, except the EPA intends to allow the sale or distribution for purposes of (i) return of material to Amvac, (ii) proper disposal, or (iii) export consistent with the requirements of section 17 of FIFRA.

If the request for voluntary use termination is granted, the Agency intends to publish the cancellation order in the Federal Register.

List of Subjects

Environmental protection, Pesticides and pests.

Dated: June 23, 2006.
Debra Edwards,
Director, Special Review and Reregistration Division, Office of Pesticide Programs.

[FR Doc. 06-5893 Filed 6-29-06; 8:45 am]

BILLING CODE 6560-50-S